ENVIRONMENTAL PROTECTION AGENCY

40 CFR Part 300

[FRL-8022-9]

National Oil and Hazardous Substance Pollution Contingency Plan; National Priorities List

AGENCY: Environmental Protection Agency (EPA).

ACTION: Technical correction of direct final partial deletion.

SUMMARY: On September 21, 2005, EPA published a notice of intent to delete (70 FR 55329) and a direct final notice of deletion (70 FR 55296) for a portion of the Tar Lake Superfund Site from the National Priorities List. The EPA is publishing this Technical Correction to the direct final notice of deletion due to errors that were published in Appendix B in direct final Notice of Deletion. After review of the direct final Notice of Deletion, EPA is publishing today this Technical Correction to change the word “ removing” to the word “revising” and the location of the site from the township “Mancelona, Michigan,” to the “Mancelona Township, Michigan.” EPA will place a copy of the final deletion package in the site repositories.

DATES: This Technical Correction of the direct final action is effective as of January 20, 2006.

ADDRESSES: Comprehensive information on the Site, as well as the comments that were received during the comment period are available at: Stuart Hill, Community Involvement Coordinator, U.S. EPA , P19J, 77 W. Jackson, Chicago, IL, (312) 886-0684 or 1-800-621-8431.

FOR FURTHER INFORMATION CONTACT: Gladys Beard, State NPL Deletion Process Manager, U.S. EPA (SR-6J), 77 W. Jackson, Chicago, IL 60604, (312) 886-7253 or 1-800-621-8431.

Information Repositories: Repositories have been established to provide detailed information concerning this decision at the following address: U.S. EPA Region V Library, 77 W. Jackson, Chicago, IL 60604, (312) 353-5821, Monday through Friday 8 a.m. to 4 p.m.; Mancelona Public Library, 202 W. State Street, Mancelona, MI 49945, (231) 587-9451, Monday through Friday 8 a.m. to 4 p.m., Tuesday and Thursday 6 p.m. to 8 p.m.

SUPPLEMENTARY INFORMATION:

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: December 29, 2005.
Gary V. Gulezian,
Acting Regional Administrator, EPA Region V.

Technical Correction

In direct final rule FR Doc. 05-18834, beginning on page 55300, 3rd column, in the issue of September 21, 2005, make the following correction. The correction should read as follows:

Appendix B to Part 300—[Corrected]

2. Table 1 of Appendix B to Part 300 is amended under Michigan “MI” by revising the entry for “Tar Lake” to read as follows:

Appendix B to Part 300—National Priorities List

Table 1.—General Superfund Section
State | Site name | City/county | Notes ᵃ
* * * * * * *
MI | Tar Lake | Antrim | P
* * * * * * *
(ᵃ) * * *
P=Sites with partial deletion(s).

* * * * *

[FR Doc. E6-572 Filed 1-19-06; 8:45 am]

BILLING CODE 6560-50-P